NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110).

Date and Time: May 11, 2022, 10 a.m.-5 p.m. Eastern, May 12, 2022, 10 a.m.-1 p.m. Eastern.

Place: NSF, 2415 Eisenhower Avenue, Alexandria, VA 22314 (Virtual).

The meeting will be held virtually among the Advisory Committee members. Livestreaming will be accessible through the following pages: May 11th— https://youtu.be/eDt3J_4i0Ws and May 12th— https://youtu.be/Hr53MPB5fZw.

Type of Meeting: Open.

Contact Persons: Montona Futrell-Griggs, National Science Foundation, 2415 Eisenhower Avenue, Alexandria, VA 22314; Telephone: (703) 292-7162.

Summary of Minutes: Minutes will be available on the BIO Advisory Committee website at https://www.nsf.gov/bio/advisory.jsp or can be obtained from the contact person listed above.

Purpose of Meeting: The Advisory Committee for the Directorate for Biological Sciences (BIO) provides advice and recommendations concerning major program emphases, directions, and goals for the research-related activities of the divisions that make up BIO.

Agenda: Agenda items will include: A directorate business update; an overview of BIO's portfolio and standard metrics; discussion of use-inspired research in context of the Convergence Accelerator program, workforce development programs in the Directorate of Education and Human Resources, industry partnership opportunities, and BIO's support for climate-related research; updates from the Committee on Equal Opportunities in Science and Engineering and the AC for Environmental Research and Education; discussion with the NSF Chief Operating Officer; and other directorate matters.

Dated: April 5, 2022.
Crystal Robinson,
Committee Management Officer.

[FR Doc. 2022-07649 Filed 4-8-22; 8:45 am]

BILLING CODE 7555-01-P